INTERNATIONAL TRADE COMMISSION

[Investigation No. 332-288]

Ethyl Alcohol for Fuel Use: Determination of the Base Quantity of Imports

AGENCY: United States International Trade Commission.

ACTION: Notice of determination.

SUMMARY: Section 423(c) of the Tax Reform Act of 1986, as amended (19 U.S.C. 2703 note), requires the United States International Trade Commission to determine annually the amount (expressed in gallons) that is equal to 7 percent of the U.S. domestic market for fuel ethyl alcohol during the 12-month period ending on the preceding September 30. This determination is to be used to establish the “base quantity” of imports of fuel ethyl alcohol with a zero percent local feedstock requirement that can be imported from U.S. insular possessions or CBERA-beneficiary countries. The base quantity to be used by U.S. Customs and Border Protection in the administration of the law is the greater of 60 million gallons or 7 percent of U.S. consumption, as determined by the Commission.

For the 12-month period ending September 30, 2011, the Commission has determined the level of U.S. consumption of fuel ethyl alcohol to be 12.955 billion gallons; 7 percent of this amount is 906.9 million gallons (these figures have been rounded). Therefore, the base quantity for 2012 should be 906.9 million gallons. The Commission's determination is based on official data of the U.S. Department of Energy.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://edis.usitc.gov.

FOR FURTHER INFORMATION CONTACT: For information specific to this investigation, contact project leader Douglas Newman (202) 205-3328, douglas.newman@usitc.gov, in the Commission's Office of Industries. For information on legal aspects of the investigation contact William Gearhart, william.gearhart@usitc.gov, of the Commission's Office of the General Counsel at (202) 205-3091. The media should contact Margaret O'Laughlin, Office of External Relations (202) 205-1819 or margaret.olaughlin@usitc.gov). Hearing-impaired individuals may obtain information on this matter by contacting the Commission's TDD terminal at (202) 205-1810. General information concerning the Commission may also be obtained by accessing its Internet server (http://www.usitc.gov). Persons with mobility impairments who will need special assistance in gaining access to the Commission should contact the Office of the Secretary at (202) 205-2000.

Background: The Commission published its notice instituting this investigation in the Federal Register of March 21, 1990 (55 FR 10512), and published its most recent previous determination for the 2011 amount in the Federal Register of December 29, 2010 (75 FR 82069).

By order of the Commission.
James R. Holbein,
Secretary.

[FR Doc. 2011-33560 Filed 12-29-11; 8:45 am]

BILLING CODE 7020-02-P